SECURITIES AND EXCHANGE COMMISSION

Sunshine Act Meeting

Notice is hereby given, pursuant to the provisions of the Government in the Sunshine Act, Public Law 94-409, that the Securities and Exchange Commission will hold an Open Meeting on June 18, 2010 at 10 a.m. in the Auditorium, Room L-002, to hear oral argument in an appeal by Guy S. Amico and Scott H. Goldstein from the decision of an administrative law judge. The law judge found that Amico and Goldstein, the president and chief executive officer, respectively, of registered broker-dealer Newbridge Securities Corporation, failed reasonably to supervise Daniel M. Kantrowitz, a former trader at Newbridge, within the meaning of Sections 15(b)(4)(E) and 15(b)(6) of the Securities Exchange Act of 1934, with a view to detecting and preventing Kantrowitz's violations of the registration and antifraud provisions of the federal securities laws. For these failures, the law judge barred Amico and Goldstein from associating with a broker-dealer in a supervisory capacity with a right to apply for reinstatement after two years and imposed on each a civil money penalty of $79,000.

Among the issues likely to be argued are whether Kantrowitz's conduct violated the registration and antifraud provisions of the securities laws, whether Amico and Goldstein failed reasonably to supervise Kantrowitz, and, if so, whether and to what extent sanctions should be imposed on Amico and Goldstein.

At times, changes in Commission priorities require alterations in the scheduling of meeting items.

For further information and to ascertain what, if any, matters have been added, deleted or postponed, please contact:

The Office of the Secretary at (202) 551-5400.

Dated: June 11, 2010.
Florence E. Harmon,
Deputy Secretary.

[FR Doc. 2010-14576 Filed 6-14-10; 11:15 am]

BILLING CODE 8010-01-P